NUCLEAR REGULATORY COMMISSION

[NRC-2014-0037]

Biweekly Notice;

Applications and Amendments to Facility Operating Licenses and Combined Licenses Involving No Significant Hazards Considerations

Background

Pursuant to Section 189a. (2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from February 6; 2014 to February 19, 2014. The last biweekly notice was published on February 19, 2014 (79 FR 9490).

ADDRESSES: You may submit comments by any of the following methods (unless this document describes a different method for submitting comments on a specific subject):

• Federal Rulemaking Web site: Go to http://www.regulations.gov and search for Docket ID NRC-2014-0037. Address questions about NRC dockets to Carol Gallagher; telephone: 301-287-3422; email: Carol.Gallagher@nrc.gov.

• Mail comments to: Cindy Bladey, Chief, Rules, Announcements, and Directives Branch (RADB), Office of Administration, Mail Stop: 3WFN-06-44M, U.S. Nuclear Regulatory Commission, Washington, DC 20555-0001.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2014-0037 when contacting the NRC about the availability of information regarding this document. You may access publicly-available information related to this document by any of the following methods:

• Federal Rulemaking Web site: Go to http://www.regulations.gov and search for Docket ID NRC-2014-0037.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2014-0037 in the subject line of your comment submission, in order to ensure that the NRC is able to make your comment submission available to the public in this docket.

The NRC cautions you not to include identifying or contact information that you do not want to be publicly disclosed in you comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR Part 2. Interested person(s) should consult a current copy of 10 CFR 2.309, which is available at the NRC's PDR, located at One White Flint North, Room O1-F21, 11555 Rockville Pike (first floor), Rockville, Maryland 20852. The NRC regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in the NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139; August 28, 2007). The E-Filing process requires participants to submit and serve all adjudicatory documents over the Internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC's Web site at http://www.nrc.gov/site-helpe-submittals.html, by email at MSHD.Resource@nrc.gov, or by a toll-free call at 1-866 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC's PDR Reference staff at 1-800-397-4209, 301-415-4737, or by email to pdr.resource@nrc.gov.

Entergy Gulf States Louisiana, LLC, and Entergy Operations, Inc., Docket No. 50-458, River Bend Station, Unit 1, West Feliciana Parish, Louisiana

Date of amendment request: November 4, 2013.

Description of amendment request: The proposed amendment would revise Technical Specifications (TS) Sections 3.6.4.3, “Standby Gas Treatment (SGT) System,” 3.6.4.7, “Fuel Building Ventilation System—Fuel Handling,” 3.7.2, “Control Room Fresh Air (CRFA) System,” and 5.5.7, “Ventilation Filter Testing Program (VFTP).” These revisions will eliminate the operability and surveillance requirements for the heaters in the safety-related charcoal filter trains in those systems, revise certain charcoal test specifications, and reduce the duration of the monthly surveillance test of the filter trains.

Basis for proposed no significant hazards consideration determination: As required by 10 CFR 50.91(a), the licensee has provided its analysis of the issue of no significant hazards consideration, which is presented below:

1. Does the proposed amendment involve a significant increase in the probability or consequences of an accident previously evaluated?

Response: No.

The SGT ensures that radioactivity leaking into the secondary containment from design basis accidents is treated and filtered before being released to the environment. The FBVS [Fuel Building Ventilation System] ensures that radioactive materials that escape from fuel assemblies damaged following a design basis fuel handling accident are filtered and adsorbed prior to exhausting to the environment. The CRFA system is designed to maintain a habitable environment in the control room envelope for a 30-day continuous occupancy after a [design basis accident (DBA)]. None of these systems involve any accident precursors or initiators. None of the proposed changes involve any reduction in the reliability of the systems.

This TS amendment request does not require or otherwise propose any physical changes to any system intended for the prevention of accidents or intended for the mitigation of accident consequences including the three systems. Neither does it involve any changes to the operation or maintenance of the three systems or to any other system designed for the prevention or mitigation of design basis accidents. This proposed TS change involves the elimination of the electric heater testing requirement and its concomitant increase in the testing criteria for relative humidity. The proposed revision to the allowable percent penetration through the FBVS filter carbon bed when challenged with methyl iodide during laboratory testing will have no adverse effects on current operating and accident off site dose calculations. With respect to the reduced duration of the monthly surveillance tests, the proposed duration of 15 minutes is adequate to ensure proper operation of the filter trains.

For the above reasons, this TS amendment request will not result in a significant increase in the probability of occurrence, or the consequences, of a previously evaluated event.

2. Does the proposed amendment create the possibility of a new or different kind of accident from any accident previously evaluated?

Response: No.

This proposed change involves elimination of the testing requirements for the electric heaters in the three charcoal filter trains. This change is consistent with the charcoal test protocol already codified in the TS. However, no changes are being made to the way the filter trains, or any other system, are operated or maintained. Changes are being made to how the filter trains will be tested, but these changes will not result in the system being operated outside of its design basis. Since no new modes of operation are introduced, the probability of occurrence of an event different from any previously evaluated is not increased.

3. Does the proposed amendment involve a significant reduction in the margin of safety?

Response: No.

The operability requirements for the electric heaters in the three charcoal filter trains are eliminated by the proposed change. The laboratory testing criteria cited in TS 5.5.7.c for the relative humidity of the process air stream are being changed from 70% to 95%. This is consistent with the test protocol required by [American Society for Testing & Materials (ASTM)] D3803-1983, which is already incorporated by reference in the TS. The capability of the charcoal filter trains to adsorb iodine in the process stream will remain unchanged. The proposed revision to the allowable percent penetration through the FBVS filter carbon bed when challenged with methyl iodide during laboratory testing will have no adverse effects on current operating and accident off site dose calculations. The proposed 15-minute duration of the monthly surveillance test provides adequate verification of the proper operation of the credited components.

For these reasons, the margin of safety is not significantly reduced. Additionally, the elimination of the filter train heaters will significantly improve the safety margin in the performance of the emergency diesel generators by reducing their post-accident loads.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Douglas A. Broaddus.

Entergy Operations, Inc., System Energy Resources, Inc., South Mississippi Electric Power Association, and Entergy Mississippi, Inc., Docket No. 50-416, Grand Gulf Nuclear Station, Unit 1, Claiborne County, Mississippi

Date of amendment request: November 8, 2013.

Description of amendment request: The proposed amendment would modify the Technical Specifications (TS) definition of “Shutdown Margin” (SDM) to require calculation of the SDM at a reactor moderator temperature of 68 degrees Fahrenheit (°F) or a higher temperature that represents the most reactive state throughout the operating cycle. This change is needed to address new Boiling Water Reactor (BWR) fuel designs which may be more reactive at shutdown temperatures above 68 °F.

This TS request is part of the Consolidated Line Item Improvement Process (CLIIP) TS Task Force (TSTF) Traveler TSTF-535, “Revise Shutdown Margin Definition to Address Advanced Fuel Designs.” The Notice of Availability of the model application and model no significant hazards consideration determination was announced in Federal Register on February 26, 2013 (78 FR 13100).

Basis for proposed no significant hazards consideration determination: As required by 10 CFR 50.91(a), the licensee has provided its analysis of the issue of no significant hazards consideration, which is presented below:

1. Does the proposed change involve a significant increase in the probability or consequences of an accident previously evaluated?

Response: No.

The proposed change revises the definition of SDM. SDM is not an initiator to any accident previously evaluated. Accordingly, the proposed change to the definition of SDM has no effect on the probability of any accident previously evaluated. SDM is an assumption in the analysis of some previously evaluated accidents and inadequate SDM could lead to an increase in consequences for those accidents. However, the proposed change revises the SDM definition to ensure that the correct SDM is determined for all fuel types at all times during the fuel cycle. As a result, the proposed change does not adversely affect the consequences of any accident previously evaluated.

Therefore, the proposed change does not involve a significant increase in the probability or consequences of an accident previously evaluated.

2. Does the proposed change create the possibility of a new or different kind of accident from any accident previously evaluated?

Response: No.

The proposed change revises the definition of SDM. The change does not involve a physical alteration of the plant (i.e., no new or different type of equipment will be installed) or a change in the methods governing normal plant operations. The change does not alter assumptions made in the safety analysis regarding SDM.

Therefore, the proposed change does not create the possibility of a new or different kind of accident from any accident previously evaluated.

3. Does the proposed change involve a significant reduction in a margin of safety?

Response: No.

The proposed change revises the definition of SDM. The proposed change does not alter the manner in which safety limits, limiting safety system settings or limiting conditions for operation are determined. The proposed change ensures that the SDM assumed in determining safety limits, limiting safety system settings or limiting conditions for operation is correct for all BWR fuel types at all times during the fuel cycle.

Therefore, the proposed change does not involve a significant reduction in a margin of safety.

The NRC staff has reviewed the licensee's analysis and, based on this review, it appears that the three standards of 10 CFR 50.92(c) are satisfied. Therefore, the NRC staff proposes to determine that the amendment request involves no significant hazards consideration. Attorney for licensee: Joseph A. Aluise, Associate General Counsel—Nuclear, Entergy Services, Inc., 639 Loyola Avenue, New Orleans, Louisiana 70113. NRC Branch Chief: Douglas A. Broaddus.

Entergy Operations, Inc., System Energy Resources, Inc., South Mississippi Electric Power Association, and Entergy Mississippi, Inc., Docket No. 50-416, Grand Gulf Nuclear Station, Unit 1, Claiborne County, Mississippi

Date of amendment request: November 8, 2013.

Description of amendment request: The amendment would modify the Technical Specifications (TS) to risk-informed requirements regarding selected Required Action End States. Additionally, it would modify the TS Required Actions with a Note prohibiting the use of Limiting Condition for Operation (LCO) 3.0.4.a when entering the preferred end state (Mode 3) on startup.

This TS request is part of the Consolidated Line Item Improvement Process (CLIIP) TS Task Force (TSTF) Traveler TSTF-423, Revision 1, “Technical Specifications End States, NEDC-32988-A,” with some deviations noted. The Notice of Availability of the model application and model no significant hazards consideration determination was announced in Federal Register on February 18, 2011 (76 FR 9614).

Basis for proposed no significant hazards consideration determination: As required by 10 CFR 50.91(a), the licensee has affirmed the applicability of the model no significant hazards consideration determination, which is presented below:

1. Does the proposed change involve a significant increase in the probability or consequences of an accident previously evaluated?

Response: No.

The proposed change allows a change to certain required end states when the TS Completion Times for remaining in power operation will be exceeded. Most of the requested technical specification (TS) changes are to permit an end state of hot shutdown (Mode 3) rather than an end state of cold shutdown (Mode 4) contained in the current TS. The request was limited to: (1) Those end states where entry into the shutdown mode is for a short interval, (2) entry is initiated by inoperability of a single train of equipment or a restriction on a plant operational parameter, unless otherwise stated in the applicable TS, and (3) the primary purpose is to correct the initiating condition and return to power operation as soon as is practical. Risk insights from both the qualitative and quantitative risk assessments were used in specific TS assessments. Such assessments are documented in Section 6 of topical report NEDC-32988-A, Revision 2, “Technical Justification to Support Risk Informed Modification to Selected Required Action End States for BWR [Boiling-Water Reactor] Plants.” They provide an integrated discussion of deterministic and probabilistic issues, focusing on specific TSs, which are used to support the proposed TS end state and associated restrictions. The NRC staff finds that the risk insights support the conclusions of the specific TS assessments. Therefore, the probability of an accident previously evaluated is not significantly increased, if at all. The consequences of an accident after adopting TSTF-423 are no different than the consequences of an accident prior to adopting TSTF-423. Therefore, the consequences of an accident previously evaluated are not significantly affected by this change. The addition of a requirement to assess and manage the risk introduced by this change will further minimize possible concerns.

Therefore, the proposed change does not involve a significant increase in the probability or consequences of an accident previously evaluated.

2. Does the proposed change create the possibility of a new or different kind of accident from any accident previously evaluated?

Response: No.

The proposed change does not involve a physical alteration of the plant (no new or different type of equipment will be installed). If risk is assessed and managed, allowing a change to certain required end states when the TS Completion Times for remaining in power operation are exceeded (i.e., entry into hot shutdown rather than cold shutdown to repair equipment) will not introduce new failure modes or effects and will not, in the absence of other unrelated failures, lead to an accident whose consequences exceed the consequences of accidents previously evaluated. The addition of a requirement to assess and manage the risk introduced by this change and the commitment by the licensee to adhere to the guidance in TSTF-IG-05-02, “Implementation Guidance for TSTF-423, Revision 1, `Technical Specifications End States, NEDC-32988-A,' ” will further minimize possible concerns.

Thus, based on the above, this change does not create the possibility of a new or different kind of accident from an accident previously evaluated.

3. Does the proposed change involve a significant reduction in a margin of safety?

Response: No.

The proposed change allows, for some systems, entry into hot shutdown rather than cold shutdown to repair equipment, if risk is assessed and managed. The [BWR Owners Group's (BWROG's)] risk assessment approach is comprehensive and follows NRC staff guidance as documented in Regulatory Guides (RG) 1.174 and 1.177. In addition, the analyses show that the criteria of the three-tiered approach for allowing TS changes are met. The risk impact of the proposed TS changes was assessed following the three-tiered approach recommended in RG 1.177. A risk assessment was performed to justify the proposed TS changes. The net change to the margin of safety is insignificant.

Therefore, the proposed change does not involve a significant reduction in a margin of safety.

Since the licensee has affirmed the applicability of the model no significant hazards consideration determination, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Douglas A. Broaddus.

Exelon Generation Company, LLC, and PSEG Nuclear LLC, Docket Nos. 50-277 and 50-278, Peach Bottom Atomic Power Station, Units 2 and 3, York and Lancaster Counties, Pennsylvania

Date of application for amendments: December 4, 2013.

Description of amendment request: The proposed amendments would revise Technical Specification (TS) Limiting Condition for Operation (LCO) 3.5.1 to delete a note pertaining to the low pressure coolant injection (LPCI) mode of residual heat removal (RHR). The licensee's application stated the note was being deleted because plant operation in accordance with the note could result in potential damage to the RHR system.

Basis for proposed no significant hazards consideration determination: As required by 10 CFR 50.91(a), the licensee has provided its analysis of the issue of no significant hazards consideration, which is presented below:

1. Does the proposed change involve a significant increase in the probability or consequences of an accident previously evaluated?

Response: No.

No physical changes to the facility will occur as a result of this proposed amendment. The proposed change will not alter the physical design. Current TSs could make PBAPS [Peach Bottom Atomic Power Station] susceptible to potential water hammer in the RHR system if in the SDC [Shutdown Cooling] Mode of RHR in Mode 3 when swapping from the SDC to LPCI mode of RHR. The proposed LAR [license amendment request] will eliminate the risk for cavitation of the pump and voiding in the suction piping, thereby avoiding potential to damage the RHR system, including water hammer.

Therefore, the proposed change does not involve a significant increase in the probability or consequences of an accident previously evaluated.

2. Does the proposed change create the possibility of a new or different kind of accident from any accident previously evaluated?

Response: No.

The proposed change does not alter the physical design, safety limits, or safety analysis assumptions associated with the operation of the plant. Accordingly, the change does not introduce any new accident initiators, nor does it reduce or adversely affect the capabilities of any plant structure, system, or component to perform their safety function. Deletion of the TS Note is appropriate because current TSs could put the plant at risk for potential cavitation of the pump and voiding in the suction piping, resulting in potential to damage the RHR system, including water hammer.

Therefore, the proposed change does not create the possibility of a new or different kind of accident from any accident previously evaluated.

3. Does the proposed change involve a significant reduction in a margin of safety?

Response: No.

The proposed change conforms to NRC regulatory guidance regarding the content of plant Technical Specifications. The proposed change does not alter the physical design, safety limits, or safety analysis assumptions associated with the operation of the plant.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for Licensee: Mr. J. Bradley Fewell, Assistant General Counsel, Exelon Generation Company, LLC, 200 Exelon Way, Kennett Square, Pennsylvania 19348.

NRC Branch Chief: Meena K. Khanna.

Tennessee Valley Authority (TVA), Docket Nos. 50-327 and 50-328, Sequoyah Nuclear Plant (SQN), Units 1 and 2, Hamilton County, Tennessee

Date of amendment request: July 3, 2013 (SQN-TS-12-04).

Description of amendment request: The proposed amendments would revise the Technical Specifications (TSs) 3/4.6.5, “Ice Condenser.” The proposed changes would revise TS Limiting Condition for Operation 3.6.5.1.d and TS Surveillance Requirement 4.6.5.1.d.2 to raise the overall ice condenser ice weight from 2,225,880 pounds (lbs) to 2,540,808 lbs and to raise the minimum TS ice basket weight from 1145 lbs to 1307 lbs, respectively. These changes are necessary to address the issues raised in Nuclear Safety Advisory Letter (NSAL) 11-5, “Westinghouse LOCA [loss-of-coolant accident] Mass and Energy Release Calculation Issues.” The issues identified in NSAL-11-5 affected plant-specific LOCA mass and energy release calculation results that are used as input to the containment integrity response analyses. The basis for the proposed changes is provided in WCAP-12455, Revision 1, Supplement 2R, “Tennessee Valley Authority Sequoyah Nuclear Plant Units 1 and 2 Containment Integrity Reanalyses Engineering Report.”

Basis for proposed no significant hazards consideration determination: As required by 10 CFR 50.91(a), the licensee has provided its analysis of the issue of no significant hazards consideration, which is presented below:

1. Does the proposed amendment involve a significant increase in the probability or consequence of an accident previously evaluated?

Response: No.

The analyzed accidents of consideration in regards to changes affecting the ice condenser are a loss of coolant accident (LOCA) and a main steam line break (MSLB) inside containment. The ice condenser is a passive system and is not postulated as being the initiator of any LOCA or MSLB and is designed to remain functional following a design basis earthquake. In addition, the ice condenser does not interconnect or interact with any systems that have an interface with the reactor coolant or main steam systems.

For SQN, the LOCA is the more severe accident in terms of containment pressure and ice bed melt out, and is therefore the more limiting accident. The revised SQN LOCA containment integrity analysis determined that the post-LOCA peak containment pressure is below the containment design pressure and that the margin to ice meltout is maintained. The analysis assumes an ice weight that ensures sufficient heat removal capability is available from the ice condenser to limit the accident peak pressure inside containment.

TVA has evaluated the effects of the increased ice condenser ice weight and determined that the increase in ice weight does not invalidate the ice condenser seismic qualification, does not adversely affect the capacity of the ice bed to absorb iodine during a LOCA, and does not diminish the boron concentration of the recirculated primary coolant during a LOCA. TVA has also evaluated differences between the as-built plant and the assumptions of the revised analysis and determined that the results of the revised analysis remain valid for Model 57AG steam generators and for AREVA Advanced W17 High Thermal Performance (HTP) fuel.

The proposed changes reflect the ice weight assumed in the containment integrity analysis including conservative allowances for sublimation and weighing instrument systematic error. Accordingly, the proposed changes ensure that ice weight values maintain margin between the calculated peak containment accident pressure and the containment design pressure. The results of the analysis and the margins are maintained; therefore, the consequences of a previously evaluated accident are not adversely affected by the proposed changes.

Because (1) the ice condenser is not an accident initiator, (2) the results of the revised analysis remain valid for Model 57AG steam generators and for AREVA Advanced W17 High Thermal Performance (HTP) fuel, and (3) the proposed changes to the TSs are limited to revision of the ice weight values to reflect the revised containment integrity analysis, there is no change in the probability of an accident previously evaluated in the SQN Updated Final Safety Analysis Report (UFSAR).

Based on the above discussions, the proposed changes do not involve an increase in the probability or consequences of an accident previously evaluated.

2. Does the proposed amendment create the possibility of a new or different kind of accident from any accident previously evaluated?

Response: No.

The ice condenser serves to limit the peak pressure inside containment following a LOCA or MSLB. The proposed changes are limited to the revision of the minimum ice weights specified in the TSs. The revised containment pressure analysis determined that sufficient ice would be present to maintain the peak containment pressure below the containment design pressure. No new modes of operation, accident scenarios, failure mechanisms, or limiting single failures are introduced as a result of this proposed change.

TVA has evaluated the effects of the increased ice condenser ice weight and determined that the increase in ice weight does not invalidate the ice condenser seismic qualification, does not adversely affect the capacity of the ice bed to absorb iodine during a LOCA, and does not diminish the boron concentration of the recirculated primary coolant during a LOCA. TVA has also evaluated differences between the as-built plant and the assumptions of the revised analysis and determined that the results of the revised analysis remain valid for Model 57AG steam generators and for AREVA Advanced W17 High Thermal Performance (HTP) fuel. Because sufficient ice weight is available to maintain the peak containment pressure below the containment design pressure, the results of the revised analysis remain valid for Model 57AG steam generators and for AREVA Advanced W1 7 High Thermal Performance (HTP) fuel, and the increase in ice weight does not invalidate the ice condenser seismic qualification, the increased ice weight does not create the possibility of an accident that is different than any already evaluated in the SQN UFSAR.

Therefore, the proposed changes do not create the possibility of a new or different kind of accident from any accident previously evaluated.

3. Does the proposed amendment involve a significant reduction in a margin of safety?

Response: No.

The operability of the ice bed ensures that the required ice inventory will (1) be distributed evenly through the containment bays, (2) contain sufficient boron to preclude dilution of the containment sump following the LOCA and (3) contain sufficient heat removal capability to condense the reactor system volume released during a LOCA. These conditions are consistent with the assumptions used in the accident analyses.

The revised analysis demonstrates that the ice condensers will continue to preclude over-pressurizing the lower containment and continue to absorb sufficient heat energy to assist in precluding containment vessel failure. TVA has evaluated the effects of the increased ice condenser ice weight and determined that the increase in ice weight does not invalidate the ice condenser seismic qualification, does not adversely affect the capacity of the ice bed to absorb iodine during a LOCA, and does not diminish the boron concentration of the recirculated primary coolant during a LOCA.

The proposed changes are required to resolve non-conservative TSs currently addressed by administrative controls established in accordance with Nuclear Regulatory Commission (NRC) Administrative Letter 98-10. The revised containment integrity response analysis requires an increase in the required ice weight to ensure that the post-LOCA peak containment pressure remains within the design limits. As a result, the proposed changes restore margin between the accident peak pressure and the containment design pressure and resolve non-conservative TSs ice weight values currently under administrative controls. Accordingly, the proposed changes do not involve a significant reduction in a margin of safety.

The NRC staff has reviewed the licensee's analysis and, based on this review, it appears that the three standards of 50.92(c) are satisfied. Therefore, the NRC staff proposes to determine that the amendment request involves no significant hazards consideration.

Attorney for licensee: General Counsel, Tennessee Valley Authority, 400 West Summit Hill Drive, WT 6A-K, Knoxville, Tennessee 37902.

NRC Branch Chief: Jessie F. Quichocho.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

DTE Electric Company, Docket No. 50-341, Fermi 2, Monroe County, Michigan

Date of application for amendment: December 21, 2012, as supplemented by letters dated July 9, 2013, and October 17, 2013.

Brief description of amendment: The amendment revises the Fermi 2 Technical Specification (TS) Section 1.1, Definitions, TS Section 3.4.10, [Reactor Coolant System] Pressure and Temperature (P/T) Limits, and TS Section 5.6, Reporting Requirements, by replacing the existing reactor vessel heatup and cooldown rates limits and the P/T limit curves with references to the Pressure and Temperature Limits Report at Fermi 2.

Date of issuance: February 4, 2014.

Effective date: As of the date of issuance and shall be implemented within 60 days.

Amendment No.: 195.

Facility Operating License No. NPF-43: Amendment revised the Facility Operating License and Technical Specifications.

Date of initial notice in Federal Register: April 9, 2013 (78 FR 21167). The supplemental letters dated July 9, 2013, and October 17, 2013, provided additional information that clarified the application, did not expand the scope of the application as originally noticed, and did not change the staff's original proposed no significant hazards consideration determination as published in the Federal Register.

The Commission's related evaluation of the amendment is contained in a Safety Evaluation dated February 4, 2014.

No significant hazards consideration comments received: No.

DTE Electric Company, Docket No. 50-341, Fermi 2, Monroe County, Michigan

Date of application for amendment: February 7, 2013, as supplemented by letters dated March 8, April 5, June 7, July 15, and September 27, 2013.

Brief description of amendment: The amendment revises the Operating License and Technical Specifications to implement an increase of approximately 1.64 percent in rated thermal power from the current licensed thermal power of 3430 megawatts thermal (MWt) to 3486 MWt. The changes are based on increased feedwater flow measurement accuracy, which will be achieved by utilizing Cameron International (formerly Caldon) CheckPlus™ Leading Edge Flow Meter ultrasonic flow measurement instrumentation.

Date of issuance: February 10, 2014.

Effective date: As of the date of issuance and shall be implemented upon startup from the Sixteenth Refueling Outage.

Amendment No.: 196.

Facility Operating License No. NPF-43: Amendment revised the Technical Specifications and License.

Date of initial notice in Federal Register: June 11, 2013 (78 FR 35069). The supplemental letters dated March 8, April 5, June 7, July 15, and September 27, 2013, provided additional information that clarified the application, did not expand the scope of the application as originally noticed, and did not change the staff's original proposed no significant hazards consideration determination as published in the Federal Register.

The Commission's related evaluation of the amendment is contained in a Safety Evaluation dated February 10, 2014.

No significant hazards consideration comments received: No.

Energy Northwest, Docket No. 50-397, Columbia Generating Station, Benton County, Washington

Date of application for amendment: July 25, 2013.

Brief description of amendment: The amendment changed the Technical Specification (TS) 3.7.4, “Control Room Air Conditioning (AC) System,” requirements by revising the Required Action and associated Completion Time for two inoperable control room air conditioning subsystems. The proposed changes are consistent with NRC-approved TS Task Force (TSTF) change traveler TSTF-477, Revision 3. The availability of this TS improvement was announced in the Federal Register on March 26, 2007 (72 FR 14143), as part of the consolidated line item improvement process.

Date of issuance: February 11, 2014.

Effective date: As of its date of issuance and shall be implemented within 60 days from the date of issuance.

Amendment No.: 227.

Renewed Facility Operating License No. NPF-21: The amendment revised the Facility Operating License and Technical Specifications.

Date of initial notice in Federal Register: October 29, 2013 (78 FR 64544).

The Commission's related evaluation of the amendment is contained in a Safety Evaluation dated February 11, 2014.

No significant hazards consideration comments received: No.

Exelon Generation Company, LLC, Docket Nos. STN 50-456 and STN 50-457, Braidwood Station, Units 1 and 2, Will County, Illinois

Docket Nos. STN 50-454 and STN 50-455, Byron Station, Unit Nos. 1 and 2, Ogle County, Illinois

Date of application for amendment: June 23, 2011, as supplemented by letters dated August 25, November 1, December 9, 2011; February 20, March 5, March 30 (two letters), April 27, May 16, June 26, August 8, September 13, and October 9, 2012; and July 5, September 5, October 8, October 24, November 13, and November 18, 2013.

Brief description of amendment: The amendment changes the maximum power level specified in each unit's operating license to 3645 MWt, Technical Specification (TS) definition of rated thermal power to 3645 MWt, TS Section 2.1.1 to modify the departure from nucleate boiling (DNB) ratio and use of DNB correlations, TS 3.4.1 and Surveillance Requirements (SR) to modify the reactor coolant system total flow rate for revised power conditions, and TS 5.6.5 to add analytical methods used to determine the core operating limits. In addition, the amendment changed the steam generator tube rupture and margin to overfill analysis.

Date of issuance: February 7, 2014

Effective date: As of the date of issuance and shall be implemented within 180 days.

Amendment Nos.: 174 and 181

Facility Operating License Nos. NPF-72, NPF-77, NPF-37, and NPF-66: The amendments revised the Facility Operating Licenses and Technical Specifications.

Date of initial notice in Federal Register: (76 FR 76195, dated December 6, 2011.)

The licensee's supplemental letters dated August 25, November 1, December 9, 2011; February 20, March 5, March 30 (two letters), April 27, May 16, June 26, August 8, September 13, and October 9, 2012; and July 5, September 5, October 8, October 24, November 13, and November 18, 2013, provided additional information that clarified the application, did not expand the scope of the application as originally noticed, and did not change the staff's original proposed no significant hazards consideration determination as published in the Federal Register.

The Commission's related evaluation of the amendments is contained in a Safety Evaluation dated February 7, 2014.

No significant hazards consideration comments received: No.

Florida Power and Light Company, et al., Docket Nos. 50-335 and 50-389, St. Lucie Plant, Units 1 and 2, St. Lucie County, Florida

Date of application for amendment: July 26, 2013, as supplemented by letter dated October 16, 2013.

Brief description of amendment: The amendments aligned St. Lucie Technical Specifications (TSs) with NUREG-1432, Revision 4, Combustion Engineering Plants Standard Technical Specifications (STSs) describing the Administrative Controls requirements for the Responsibility and Organization, which includes Onsite and Offsite Organizations and the Unit Staff. The proposed amendment revised TSs 6.1, Responsibility and 6.2, Organization to be consistent with STSs 5.1 Responsibility and 5.2 Organization, which directly reference the requirements in 10 CFR 50.54(m). The current Units 1 and 2 TSs 6.1 and 6.2 use custom language to define the requirements of the regulation.

Date of issuance: February 7, 2014.

Effective date: As of the date of issuance and shall be implemented within 90 days.

Amendment Nos.: 217 and 167.

Facility Operating License Nos. DPR-77 and DPR-79: Amendments revised the License and TSs.

Date of initial notice in Federal Register: November 12, 2013 (78 FR 67406).

The Commission's related evaluation of the amendment is contained in a Safety Evaluation dated February 7, 2014.

No significant hazards consideration comments received: No.

South Carolina Electric and Gas Company, South Carolina Public Service Authority, Docket No. 50-395, Virgil C. Summer Nuclear Station, Unit 1, Fairfield County, South Carolina

Date of application for amendment: April 2, 2013.

Brief description of amendment: This amendment revises the Snubber Technical Specification 3/4.7.7 to conform to planned revisions to the snubber inservice inspection and testing program.

Date of issuance: February 6, 2014.

Effective date: This license amendment is effective as of the date of its issuance.

Amendment No.: 195.

Renewed Facility Operating License No. NPF-12: Amendment revises the License.

Date of initial notice in Federal Register: May 28, 2013 (78 FR 31983).

The Commission's related evaluation of the amendment is contained in a Safety Evaluation dated February 6, 2014.

No significant hazards consideration comments received: No.

Dated at Rockville, Maryland, this 24th day of February, 2014.
For the Nuclear Regulatory Commission.
Michele G. Evans,
Director, Division of Operating Reactor Licensing, Office of Nuclear Reactor Regulation.

[FR Doc. 2014-04687 Filed 3-3-14; 8:45 am]

BILLING CODE 7590-01-P